DEPARTMENT OF COMMERCE

Census Bureau

Submission for OMB Review; Comment Request

DOC has submitted to the Office of Management and Budget (OMB) for clearance the following proposal for collection of information under the provisions of the Paperwork Reduction Act (44 U.S.C. chapter 35).

Agency: U.S. Census Bureau.

Title: Pollution Abatement Costs & Expenditures Survey.

Form Number(s): MA-200S, MA-200P, MA-200.

Agency Approval Number: 0607-0176.

Type of Request: Reinstatement, with change, of an expired collection.

Burden: 120,000 hours.

Number of Respondents: 62,000.

Avg Hours Per Response: Screener—15 minutes; Pilot & Survey—5 hours.

Needs and Uses: The Pollution Abatement Costs and Expenditures (PACE) survey was conducted annually from 1973 through 1994, with the exception of 1987, and again in 1999. The PACE survey provided measures of the cost to private industry for the Nation's commitment to protecting the environment. Private industry is spending significant amounts of money to meet increasing Federal, state, and local regulations for controlling pollution. Efforts to abate pollution or decrease expenses of pollution abatement have led to technology innovation and improved efficiency for some companies. This survey was a source of data for monitoring the impact of environmental programs on the U.S. economy and responsiveness to these programs. The absence of the data over the past 5 years has highlighted the need for measures of private industry spending on pollution abatement activities. During this time, there has been no suitable substitute for measuring and monitoring these environmental changes. In particular, the Environmental Protection Agency (EPA) has had insufficient information to monitor the impact of environmental programs. These data will enable EPA to better satisfy legislative and executive requirements to track costs.

With support from the EPA, the Census Bureau plans to reinstate this survey for 2005. As a precursor to the 2005 PACE survey, the Census Bureau also plans to conduct a screener and pilot survey.

The screener is designed to identify establishments with PACE activities and target these establishments for the pilot and 2005 PACE survey. The screener will ask respondents if they have operating costs or capital expenditures related to the treatment or prevention of air, water or solid waste pollutants. And if so, how much (within ranges). These questions will be check boxes only. The screener will include approximately 40,000 establishments.

The purpose of the pilot is to test the proposed 2005 PACE questionnaire with potential respondents who have expenses related to treatment or prevention of pollutants. Respondents will be asked to complete the form and answer some qualitative questions on the content and clarity of instructions. The pilot results will be used to modify and finalize the proposed 2005 PACE questionnaire and sample design. The pilot and the survey will collect information similar to that previously collected on the MA-200: pollution abatement capital expenditures and operating costs, each by media (air, water, solid waste, and multi-media). It will also collect information on depreciation and cost offsets. For the pilot, we will also collect employment and shipments. The final survey will only collect these data from non-ASM establishments. The pilot will include approximately 2,000 establishments. No estimates will be produced from the pilot. The survey will include approximately 20,000 establishments.

The survey results will be published in the Current Industrial Reports Series. Primary users of the pollution abatement data are Federal, state, and local government agencies, business firms, trade associations, academic researchers, environmental groups, and private research and consulting organizations.

The PACE survey results will be used by EPA to satisfy Executive Order 12866 which specifically charges EPA to assess the costs and benefits of all proposed major rules and alternative approaches. EPA also uses the PACE data in various reports including: Cost of a Clean Environment; Section 812 Clean Air Retrospective Cost Analysis; Annual OMB Reports to Congress on Costs and Benefits of Federal Regulation (Thompson Report); and Social Cost Appendix of EPA's Strategic Plan.

Capital expenditures for pollution abatement is an important component of total capital expenditures when analyzing investment and productivity at the Bureau of Labor Statistics and the Bureau of Economic Analysis.

State and local governments, trade associations, the academic community, and private businesses use the data to evaluate regional pollution abatement spending, local legislation, and performance of specific industries.

Affected Public: Business or other for-profit.

Frequency: Annually.

Respondent's Obligation: Mandatory.

Legal Authority: Title 13 U.S.C. 131, 182, 193, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: March 4, 2005.
Madeleine Clayton,
Management Analyst, Office of the Chief Information Officer.

[FR Doc. 05-4575 Filed 3-8-05; 8:45 am]

BILLING CODE 3510-07-P